COMMISSION ON CIVIL RIGHTS

Notice of Cancellation of Public Meeting of the Vermont Advisory Committee

Notice is hereby given, pursuant to the provisions of the rules and regulations of the U.S. Commission on Civil Rights, that a meeting of the Vermont Advisory Committee to the Commission which was to have convened at 10:45 a.m. and adjourned at 2:45 p.m. on Friday, September 21, 2001, at the Hamilton Room-One Flight Up Resturant, Burlington International Airport, 1200 Airport Drive, South Burlington, Vermont, has been canceled.

The original notice for the meeting was announced in the Federal Register on September 5, 2001, FR Doc. 01-22211, Vol. 66, No. 172, Page 46432.

Persons desiring additional information should contact Marc Pentino of the Eastern Regional Office, 202-376-7533 (TDD 202-376-8116).

Dated at Washington, DC, September 20, 2001.
Ivy L. Davis,
Chief, Regional Programs Coordination Unit.

[FR Doc. 01-23994 Filed 9-20-01; 5:01 pm]

BILLING CODE 6335-01-P